FEDERAL RESERVE SYSTEM

Notice of Meeting of Consumer Advisory Council

The Consumer Advisory Council will meet on Thursday, June 23, 2005. The meeting, which will be open to public observation, will take place at the Federal Reserve Board's offices in Washington, D.C., in Dining Room E on the Terrace level of the Martin Building. Anyone planning to attend the meeting should, for security purposes, register no later than Tuesday, June 21, by completing the form found on-line at: https://www.federalreserve.gov/secure/forms/cacregistration.cfm.

Additionally, attendees must present photo identification to enter the building.

The meeting will begin at 9 a.m. and is expected to conclude at 1 p.m. The Martin Building is located on C Street, NW., between 20th and 21st Streets.

The Council's function is to advise the Board on the exercise of the Board's responsibilities under various consumer financial services laws and on other matters on which the Board seeks its advice. Time permitting, the Council will discuss the following topics:

Truth in Lending Act. Discussion of the Truth in Lending Act amendments in the new bankruptcy legislation and specific issues with regard to review of Regulation Z, which implements the Truth in Lending Act.

Information Security. Discussion of issues and concerns involving adoption and implementation of the interagency guidelines for security standards and guidance for response programs for security breaches.

Community Reinvestment Act (CRA) and Community Development. Discussion of issues concerning community development services and identification of “underserved rural areas” with regard to community development initiatives.

Committee Reports. Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, June 2, 2005.
Jennifer J. Johnson,
Secretary of the Board.

[FR Doc. 05-11408 Filed 6-7-05; 8:45 am]

BILLING CODE 6210-01-P